DEPARTMENT OF AGRICULTURE

Forest Service

Boundary Modification to Colorado Roadless Area Boundary, Rio Grande National Forest

AGENCY: Forest Service, USDA.

ACTION: Notice of proposed Colorado Roadless Area boundary modifications; request for comment.

SUMMARY: The Forest Service proposes to modify the Wightman Fork to Lookout Roadless Area boundary on the Rio Grande National Forest to include parcels of non-federal land and remove federal land for the Summitville Interchange land exchange. The Chief of the Forest Service proposes to modify this boundary after a 90-day public comment period.

DATES: Comments must be received in writing by February 28, 2018.

ADDRESSES: Written comments concerning this notice should be addressed to Tom Malecek, Rio Grande National Forest, 1803 West Highway 160, Monte Vista, CO 81144. Comments may also be sent via email to comments-rocky-mountain-rio-grande@fs.fed.us or via facsimile to (719) 852-6250.

All comments, including names and addresses when provided, are placed in the record and are available for public inspection and copying. The public may inspect comments received at the above address. Visitors are encouraged to call ahead to (719) 852-5941 to facilitate entry to the building.

FOR FURTHER INFORMATION CONTACT: For additional information, including maps of the proposed adjustments, contact Tom Malecek, Deputy Forest Supervisor, at (719) 852-6225. Additional information concerning this boundary modification, including maps, may be obtained on the Internet at: https://www.fs.usda.gov/project/?project=52819.

Individuals who use telecommunication devices for the deaf (TDD) may call the Federal Information Relay Service (FIRS) at 1-800-877-8339 between 8:00 a.m. and 8:00 p.m., Eastern Standard Time, Monday through Friday.

SUPPLEMENTARY INFORMATION: The Colorado Roadless Rule permits the Chief of the Forest Service to modify Colorado Roadless Area boundaries after a 90-day public comment period. Pursuant to 36 CFR 294.47(a), the Forest Service proposes to modify the Wightman Fork to Lookout Roadless Area boundary, located in the Rio Grande National Forest, to allow for the inclusion of 10 acres of non-federal land to be acquired by the Forest Service and remove 16 acres of federal land to be conveyed to non-federal parties for this land exchange. With the boundary modifications, the exchange would result in a net decrease to Colorado Roadless Areas of approximately six acres.

Responsible Official

The Forest Service is analyzing the impacts of the land exchange and roadless area boundary modifications. The Chief of the Forest Service is the responsible official for the boundary modification under the Colorado Roadless Rule. The Forest Supervisor, Rio Grande National Forest, is the responsible official for the land exchange. The Forest Service will consider public comments on the proposed boundary modifications in coordination with the proposed land exchange.

Dated: November 20, 2017.
Tony Tooke,
Chief.

[FR Doc. 2017-25874 Filed 11-29-17; 8:45 am]

BILLING CODE 3411-15-P